DEPARTMENT OF TRANSPORTATION

Federal Aviation Administration

14 CFR Part 39

[Docket No. FAA-2009-1021; Directorate Identifier 2009-NM-054-AD]

RIN 2120-AA64

Airworthiness Directives; Bombardier Model CL-600-1A11 (CL-600), CL-600-2A12 (CL-601), and CL-600-2B16 (CL-601-3A, CL-601-3R, and CL-604) Airplanes

AGENCY: Federal Aviation Administration (FAA), DOT.

ACTION: Notice of proposed rulemaking (NPRM).

SUMMARY: We propose to adopt a new airworthiness directive (AD) for the products listed above that would revise an existing AD. This proposed AD results from mandatory continuing airworthiness information (MCAI) originated by an aviation authority of another country to identify and correct an unsafe condition on an aviation product. The MCAI describes the unsafe condition as:

[S]everal cases of wing anti-ice piccolo duct failure reported on CL-600-2B19 (CRJ) aircraft. Although there have been no failures reported on Challenger aircraft, similar ducts are installed on the * * * [other] Challenger models. Cracking of the wing anti-ice piccolo ducts could result in air leakage, with an adverse effect on the anti-ice air distribution pattern and a possible unannunciated insufficient heat condition.

The unsafe condition is anti-ice system air leakage with a possible adverse effect on the anti-ice air distribution pattern and anti-ice capability without annunciation to the flightcrew, and consequent reduced controllability of the airplane. The proposed AD would require actions that are intended to address the unsafe condition described in the MCAI.

DATES: We must receive comments on this proposed AD by December 21, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Parrillo, Aerospace Engineer, Airframe and Mechanical Systems, ANE-171, FAA, New York Aircraft Certification Office, 1600 Stewart Avenue, Suite 410, Westbury, New York 11590; telephone (516) 228-7305; fax (516) 794-5531.

SUPPLEMENTARY INFORMATION:

Comments Invited

We invite you to send any written relevant data, views, or arguments about this proposed AD. Send your comments to an address listed under the ADDRESSES section. Include “Docket No. FAA-2009-1021; Directorate Identifier 2009-NM-054-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On February 27, 2009, we issued AD 2009-06-05, Amendment 39-15841 (74 FR 12225, March 24, 2009). That AD required actions intended to address an unsafe condition on the products listed above.

Since we issued AD 2009-06-05, Bombardier submitted comments after the publication of that AD requesting that we change paragraphs (f)(2) and (f)(4) of AD 2009-06-05 to allow compliance within 2,000 flight hours or 60 months after the effective date of the AD, whichever occurs first, instead of prior to the accumulation of 2,000 total flight hours or within 60 months after the effective date of the AD, whichever occurs first. We agree and we have revised paragraphs (f)(2) and (f)(4) of this NPRM accordingly. The proposed compliance time matches the intent of Transport Canada Civil Aviation (TCCA) AD CF-2008-18, dated May 9, 2008, and represents the maximum interval of time allowable for the affected airplanes to operate safely.

Bombardier has also requests that we change Table 2 of that AD to replace references to two temporary revisions (TRs): Canadair TR 600/23, dated August 16, 2006, to the Canadair Challenger Model CL-600-1A11 Airplane Flight Manual (AFM); and Canadair TR 600-1/19, dated August 16, 2006, to the Canadair Challenger Model CL-600-1A11 AFM (Winglets). These two TRs are approved by TCCA, and should be replaced in AD 2009-06-05 with references to the following FAA-approved TRs: Canadair TR 600/22, dated August 16, 2006, to the Canadair Challenger Model CL-600-1A11 AFM; and Canadair TR 600-1/17, dated August 16, 2006, to the Canadair Challenger Model CL-600-1A11 AFM (Winglets). We agree and we have revised Table 2 of this NPRM accordingly.

Relevant Service Information

Bombardier has issued the service information listed in the “Temporary Revisions (TRs)” and “Service Bulletins” tables, below. The actions described in this service information are intended to correct the unsafe condition identified in the MCAI.

Temporary Revisions (TRs)
Canadair TR— | Dated— | To the—
600/22 | August 16, 2006 | Canadair Challenger Model CL-600-1A11 AFM.
600-1/17 | August 16, 2006 | Canadair Challenger Model CL-600-1A11 AFM (Winglets).
601/14 | August 16, 2006 | Canadair Challenger Model CL-600-2A12 AFM, Product Support Publication (PSP) 601-1B-1.
601/15 | August 16, 2006 | Canadair Challenger Model CL-600-2A12 AFM, PSP 601-1A-1.
601/19 | August 16, 2006 | Canadair Challenger Model CL-600-2A12 AFM, PSP 601-1B.
601/26 | August 16, 2006 | Canadair Challenger Model CL-600-2B16 AFM, PSP 601A-1.
601/27 | August 16, 2006 | Canadair Challenger Model CL-600-2A12 AFM.
601/27 | August 16, 2006 | Canadair Challenger Model CL-600-2B16 AFM, PSP 601A-1-1.
604/20 | April 17, 2006 | Canadair Challenger Model CL-604 AFM, PSP 604-1.

Service Bulletins
Bombardier Service Bulletin— | Revision level— | Dated—
600-0734 | Original | November 30, 2006.
601-0585 | Original | November 30, 2006.
604-30-003 | 01 | January 21, 2008.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 108 products of U.S. registry. We also estimate that it would take about 37 work-hours per product to comply with the basic requirements of this proposed AD. The average labor rate is $80 per work-hour. Based on these figures, we estimate the cost of the proposed AD on U.S. operators to be $319,680, or $2,960 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15841 (74 FR 12225, March 24, 2009) and adding the following new AD:

Bombardier, Inc. (Formerly Canadair): Docket No. FAA-2009-1021; Directorate Identifier 2009-NM-054-AD.

Comments Due Date

(a) We must receive comments by December 21, 2009.

Affected ADs

(b) The proposed AD revises AD 2009-06-05, Amendment 39-15841.

Applicability

(c) This AD applies to the airplanes identified in Table 1, paragraphs (c)(1), (c)(2), (c)(3), and (c)(4) of this AD, certificated in any category.

Table 1—Airplanes Affected by This AD
Bombardier model | Serial Nos.
(1) CL-600-1A11 (CL-600) airplanes | 1004 through 1085 inclusive.
(2) CL-600-2A12 (CL-601) airplanes | 3001 through 3066 inclusive.
(3) CL-600-2B16 (CL-601-3A & CL-601-3R) airplanes | 5001 through 5194 inclusive.
(4) CL-600-2B16 (CL-604) airplanes | 5301 through 5635 inclusive.

Subject

(d) Air Transport Association (ATA) of America Code 30: Ice and Rain Protection.

Reason

(e) The mandatory continuing airworthiness information (MCAI) states:

There have been several cases of wing anti-ice piccolo duct failure reported on CL-600-2B19 (CRJ) aircraft. Although there have been no failures reported on Challenger aircraft, similar ducts are installed on the * * * [other] Challenger models.

Upon investigation, it has been determined that ducts manufactured since June 2000, and installed since 1 August 2000, are susceptible to cracking due to the process used to drill the holes in the ducts. These ducts were installed on CL-600-2B16 aircraft, serial numbers 5469 through 5635 in production, but may also have been installed as replacements on CL-600-1A11, CL-600-2A12 and other CL-600-2B16 aircraft.

Cracking of the wing anti-ice piccolo ducts could result in air leakage, with an adverse effect on the anti-ice air distribution pattern and a possible unannunciated insufficient heat condition. As a result, the airplane flight manual (AFM) instructions have been revised to provide proper annunciation of an insufficient heat condition, utilizing existing messages and indications, with instructions, to the pilot, to leave icing conditions if sufficient heat cannot be achieved or maintained.

This directive mandates the amendment of the AFM procedures, in addition to checking the part numbers and serial numbers of the installed wing anti-ice piccolo ducts and replacing them as necessary.

The unsafe condition is anti-ice system air leakage with a possible adverse effect on the anti-ice air distribution pattern and anti-ice capability without annunciation to the flightcrew, and consequent reduced controllability of the airplane.

Actions and Compliance

(f) Unless already done, do the following actions.

(1) For airplanes identified in paragraphs (c)(1), (c)(2), (c)(3), and (c)(4) of this AD: Within 30 days after the effective date of this AD, revise the Normal and Abnormal Procedures sections of the applicable Canadair Challenger Airplane Flight Manual (AFM) by inserting a copy of the applicable temporary revision (TR) listed in Table 2 of this AD. When the information in the applicable TR is included in the general revisions of the AFM, the general revisions may be inserted in the AFM, as applicable, and the TR may be removed.

Table 2—Temporary Revisions
Canadair TR— | Dated— | To the—
(i) 600/22 | August 16, 2006 | Canadair Challenger Model CL-600-1A11 AFM.
(ii) 600-1/17 | August 16, 2006 | Canadair Challenger Model CL-600-1A11 AFM (Winglets).
(iii) 601/14 | August 16, 2006 | Canadair Challenger Model CL-600-2A12 AFM, Product Support Publication (PSP) 601-1B-1.
(iv) 601/15 | August 16, 2006 | Canadair Challenger Model CL-600-2A12 AFM, PSP 601-1A-1.
(v) 601/19 | August 16, 2006 | Canadair Challenger Model CL-600-2A12 AFM, PSP 601-1B.
(vi) 601/26 | August 16, 2006 | Canadair Challenger Model CL-600-2B16 AFM, PSP 601A-1.
(vii) 601/27 | August 16, 2006 | Canadair Challenger Model CL-600-2A12 AFM.
(viii) 601/27 | August 16, 2006 | Canadair Challenger Model CL-600-2B16 AFM, PSP 601A-1-1.
(ix) 604/20 | April 17, 2006 | Canadair Challenger Model CL-604 AFM, PSP 604-1.

(2) For airplanes identified in paragraphs (c)(1), (c)(2), and (c)(3) of this AD, and for Model CL-600-2B16 (CL-604) airplanes, serial numbers 5301 through 5468 inclusive: Within 2,000 flight hours or 60 months after the effective date of this AD, whichever occurs first, review the airplane maintenance records to determine if any anti-ice piccolo ducts or complete leading edge sections were replaced on or after August 1, 2000.

(3) For airplanes identified in paragraphs (c)(1), (c)(2), and (c)(3) of this AD, and for Model CL-600-2B16 (CL-604) airplanes, serial numbers 5301 through 5468 inclusive: If, during the accomplishment of the action required by paragraph (f)(2) of this AD, it is determined that any anti-ice piccolo duct has been replaced on or after August 1, 2000, before further flight, inspect to determine if any affected serial number identified in paragraph 2.C. of the applicable service bulletin listed in Table 3 of this AD is installed. A review of airplane maintenance records is acceptable in lieu of this inspection if the serial number of the duct can be conclusively determined from that review. If any affected serial number is installed, before further flight, replace the piccolo duct with a serviceable piccolo duct that does not have a serial number identified in paragraph 2.C. of the applicable service bulletin listed in Table 3 of this AD. Do all actions in accordance with the Accomplishment Instructions of the applicable service bulletin listed in Table 3 of this AD.

Table 3—Service Bulletins
Model— | Bombardier Service Bulletin— | Revision level— | Date—
(i) CL-600-1A11 (CL-600) airplanes | 600-0734 | Original | November 30, 2006.
(ii) CL-600-2A12 (CL-601) airplanes | 601-0585 | Original | November 30, 2006.
(iii) CL-600-2B16 (CL-601-3A, CL-601-3R) airplanes | 601-0585 | Original | November 30, 2006.
(iv) CL-600-2B16 (CL-604) airplanes | 604-30-003 | 01 | January 21, 2008.

(4) For Model CL-600-2B16 (CL-604) airplanes, serial numbers 5469 through 5635 inclusive: Within 2,000 flight hours or 60 months after the effective date of this AD, whichever occurs first, inspect the anti-ice piccolo ducts to determine if any affected serial number identified in paragraph 2.C. of the Bombardier Service Bulletin 604-30-003, Revision 01, dated January 21, 2008, is installed. If any affected serial number is installed, before further flight, replace the piccolo duct with a serviceable piccolo duct that does not have a serial number identified in paragraph 2.C. of Bombardier Service Bulletin 604-30-003, Revision 01, dated January 21, 2008. Do all actions in accordance with the Accomplishment Instructions of Bombardier Service Bulletin 604-30-003, Revision 01, dated January 21, 2008.

(5) As of April 28, 2009 (the effective date of AD 2009-06-05), no person may install on any airplane an anti-ice piccolo duct with a serial number identified in paragraph 2.C. of the applicable service bulletin identified in Table 3 of this AD.

(6) Actions done before April 28, 2009, in accordance with Bombardier Service Bulletin 604-30-003, dated November 30, 2006, are acceptable for compliance with the corresponding actions in this AD.

FAA AD Differences

Note 1: This AD differs from the MCAI and/or service information as follows: No differences.

Other FAA AD Provisions

(g) The following provisions also apply to this AD:

(1) Alternative Methods of Compliance (AMOCs): The Manager, New York Aircraft Certification Office, FAA, has the authority to approve AMOCs for this AD, if requested using the procedures found in 14 CFR 39.19. Send information to Attn: Dan Parrillo, Aerospace Engineer, Airframe and Mechanical Systems, ANE-171, FAA, New York Aircraft Certification Office, 1600 Stewart Avenue, Suite 410, Westbury, New York 11590; telephone (516) 228-7305; fax (516) 794-5531. Before using any approved AMOC on any airplane to which the AMOC applies, notify your appropriate principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Canadian Airworthiness Directive CF-2008-18, dated May 9, 2008, and the service information identified in Table 2 and Table 3 of this AD, for related information.

Issued in Renton, Washington, on October 26, 2009.
Stephen P. Boyd,
Acting Manager, Transport Airplane Directorate, Aircraft Certification Service.

[FR Doc. E9-26592 Filed 11-4-09; 8:45 am]

BILLING CODE 4910-13-P